DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by the American Museum of Natural History professional staff in consultation with representatives of the Bad River Band of the Lake Superior Tribe of Chippewa Indians of the Bad River Reservation, Wisconsin; Bay Mills Indian Community of the Sault Ste. Marie Band of Chippewa Indians, Bay Mills Reservation, Michigan; Bois Forte Band (Nett Lake) of the Minnesota Chippewa Tribe, Minnesota; Chippewa-Cree Indians of the Rocky Boy’s Reservation, Montana; Fond du Lac Band of the Minnesota Chippewa Tribe, Minnesota; Grand Portage Band of the Minnesota Chippewa Tribe, Minnesota; Grand Traverse Band of Ottawa & Chippewa Indians of Michigan; Keweenaw Bay Indian Community of L’Anse and Ontonagon Bands of Chippewa Indians of the L’Anse Reservation, Michigan; Lac Courte Oreilles Band of Lake Superior Chippewa Indians of the Lac Courte Oreilles Reservation of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Mille Lacs Band of the Minnesota Chippewa Tribe, Minnesota; Minnesota Chippewa Tribe, Minnesota; Red Cliff Band of Lake Superior Chippewa Indians of Wisconsin; Red Lake Band of Chippewa Indians of the Red Lake Reservation, Minnesota; Saginaw Chippewa Indian Tribe of Michigan, Isabella Reservation; Sault Ste. Marie Tribe of Chippewa Indians of Michigan; Sokaogon Chippewa Community of the Mole Lake Band of Chippewa Indians, Wisconsin; St. Croix Chippewa Indians of Wisconsin, St. Croix Reservation; Turtle Mountain Band of Chippewa Indians of North Dakota; and White Earth Band of the Minnesota Chippewa Tribe, Minnesota.

At an unknown date, human remains representing a minimum of four individuals were collected by Frances Densmore from the vicinity of Lake Superior, MN. The American Museum of Natural History purchased the remains from Miss Densmore in 1920. No known individuals were identified. No associated funerary objects are present.

These individuals have been identified as Native American based on the American Museum of Natural History’s documentation and geographic information. The original catalog refers to these remains as “Ojibway.” These remains were obtained from the postcontact territory of the Ojibway (also known as Chippeway, Chippewa, or Ojibwa).

Based on the above-mentioned information, officials of the American Museum of Natural History have determined that, pursuant to 43 CFR 10.2 (d)(1), the human remains listed above represent the physical remains of a minimum of four individuals of Native American ancestry. Officials of the American Museum of Natural History also have determined that, pursuant to 43 CFR 10.2 (e), there is a relationship of shared group identity that can be reasonably traced between these Native American human remains and the Bad River Band of the Lake Superior Tribe of Chippewa Indians of the Bad River Reservation, Wisconsin; Bay Mills Indian Community of the Sault Ste. Marie Band of Chippewa Indians, Bay Mills Reservation, Michigan; Bois Forte Band (Nett Lake) of the Minnesota Chippewa Tribe, Minnesota; Chippewa-Cree Indians of the Rocky Boy’s Reservation, Montana; Fond du Lac Band of the Minnesota Chippewa Tribe, Minnesota; Grand Portage Band of the Minnesota Chippewa Tribe, Minnesota; Grand Traverse Band of Ottawa & Chippewa Indians of Michigan; Keweenaw Bay Indian Community of L’Anse and Ontonagon Bands of Chippewa Indians of the L’Anse Reservation, Michigan; Lac Courte Oreilles Band of Lake Superior Chippewa Indians of the Lac Courte Oreilles Reservation of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Mille Lacs Band of the Minnesota Chippewa Tribe, Minnesota; Minnesota Chippewa Tribe, Minnesota; Red Cliff Band of Lake Superior Chippewa Indians of Wisconsin; Red Lake Band of Chippewa Indians of the Red Lake Reservation, Minnesota; Saginaw Chippewa Indian Tribe of Michigan, Isabella Reservation; Sault Ste. Marie Tribe of Chippewa Indians of Michigan; Sokaogon Chippewa Community of the Mole Lake Band of Chippewa Indians, Wisconsin; St. Croix Chippewa Indians of Wisconsin, St. Croix Reservation; Turtle Mountain Band of Chippewa Indians of North Dakota; and White Earth Band of the Minnesota Chippewa Tribe, Minnesota.

This notice has been sent to officials of the Bad River Band of the Lake Superior Tribe of Chippewa Indians of the Bad River Reservation, Wisconsin; Bay Mills Indian Community of the Sault Ste. Marie Band of Chippewa Indians, Bay Mills Reservation, Michigan; Bois Forte Band (Nett Lake) of the Minnesota Chippewa Tribe, Minnesota; Chippewa-Cree Indians of the Rocky Boy’s Reservation, Montana; Fond du Lac Band of the Minnesota Chippewa Tribe, Minnesota; Grand Portage Band of the Minnesota Chippewa Tribe, Minnesota; Grand Traverse Band of Ottawa & Chippewa Indians of Michigan; Keweenaw Bay Indian Community of L’Anse and Ontonagon Bands of Chippewa Indians of the L’Anse Reservation, Michigan; Lac Courte Oreilles Band of Lake Superior Chippewa Indians of the Lac Courte Oreilles Reservation of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Mille Lacs Band of the Minnesota Chippewa Tribe, Minnesota; Minnesota Chippewa Tribe, Minnesota; Red Cliff Band of Lake Superior Chippewa Indians of Wisconsin; Red Lake Band of Chippewa Indians of the Red Lake Reservation, Minnesota; Saginaw Chippewa Indian Tribe of Michigan, Isabella Reservation; Sault Ste. Marie Tribe of Chippewa Indians of Michigan; Sokaogon Chippewa Community of the Mole Lake Band of Chippewa Indians, Wisconsin; St. Croix Chippewa Indians of Wisconsin, St. Croix Reservation; Turtle Mountain Band of Chippewa Indians of North Dakota; and White Earth Band of the Minnesota Chippewa Tribe, Minnesota. Representatives of any other Indian tribe that believes itself to be culturally affiliated with these human remains should contact Martha Graham, Director of Cultural Resources, American Museum of Natural History, Central Park West at 79th Street, New York, NY 10024-5192, telephone (212) 769-5846, before December 5, 2001. Repatriation of the human remains to the Bad River Band of the Lake Superior Tribe of Chippewa Indians of the Bad River Reservation, Wisconsin; Bay Mills Indian Community of the Sault Ste. Marie Band of Chippewa Indians, Bay Mills Reservation, Michigan; Bois Forte Band (Nett Lake) of the Minnesota Chippewa Tribe, Minnesota; Chippewa-Cree Indians of the Rocky Boy’s Reservation, Montana; Fond du Lac Band of the Minnesota Chippewa Tribe, Minnesota; Grand Portage Band of the Minnesota Chippewa Tribe, Minnesota; Grand Traverse Band of Ottawa & Chippewa Indians of Michigan; Keweenaw Bay Indian Community of L’Anse and Ontonagon Bands of Chippewa Indians of the L’Anse Reservation, Michigan; Lac Courte Oreilles Band of Lake Superior Chippewa Indians of the Lac Courte Oreilles Reservation of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Mille Lacs Band of the Minnesota Chippewa Tribe, Minnesota; Minnesota Chippewa Tribe, Minnesota; Red Cliff Band of Lake Superior Chippewa Indians of Wisconsin; Red Lake Band of Chippewa Indians of the Red Lake Reservation, Minnesota; Saginaw Chippewa Indian Tribe of Michigan, Isabella Reservation; Sault Ste. Marie Tribe of Chippewa Indians of Michigan; Sokaogon Chippewa Community of the Mole Lake Band of Chippewa Indians, Wisconsin; St. Croix Chippewa Indians of Wisconsin, St. Croix Reservation; Turtle Mountain Band of Chippewa Indians of North Dakota; and White Earth Band of the Minnesota Chippewa Tribe, Minnesota may begin after that date if no additional claimants come forward.

Dated: August 28, 2001.
John Robbins,
Assistant Director, Cultural Resources Stewardship and Partnerships.

[FR Doc. 01-27702 Filed 11-2-01; 8:45 am]

BILLING CODE 4310-70-S